DEPARTMENT OF COMMERCE

International Trade Administration

[A-570-979]

Crystalline Silicon Photovoltaic Cells, Whether or Not Assembled Into Modules, From the People's Republic of China: Rescission of Antidumping Duty New Shipper Review; 2013-2014

AGENCY: Enforcement and Compliance, International Trade Administration, Department of Commerce.

SUMMARY: The Department of Commerce (“Department”) published its Preliminary Rescission for the new shipper review (“NSR”) of the antidumping duty order on crystalline silicon photovoltaic cells, whether or not assembled into modules, from the People's Republic of China (“PRC”) on April 21, 2015.¹ The period of review (“POR”) is December 1, 2013, through May 31, 2014. As discussed below, we preliminarily found that the sale made by Hengdian Group DMEGC Magnetics Co., Ltd. (“DMEGC”) was non-bona fide, and announced our preliminary intent to rescind its NSR. For the final results of this review, we continue to find DMEGC's sale to be non-bona fide. Therefore, we are rescinding this NSR.

¹ See Crystalline Silicon Photovoltaic Cells, Whether or Not Assembled Into Modules, From the People's Republic of China: Preliminary Rescission of 2013-2014 Antidumping Duty New Shipper Review, 80 FR 22164 (April 21, 2015) (“Preliminary Rescission”); see also Memorandum to Howard Smith, Acting Director, Office 4, AD/CVD Operations, from Jeffrey Pedersen, International Trade Analyst, titled “2013-2014 Antidumping Duty New Shipper Review of Crystalline Silicon Photovoltaic Cells, Whether or Not Assembled Into Modules, From the People's Republic of China: Preliminary Bona Fide Sales Analysis for Hengdian Group DMEGC Magnetics Co., Ltd.,” dated April 7, 2015.

DATES: Effective Date: September 14, 2015.

FOR FURTHER INFORMATION CONTACT: Jeffrey Pedersen, AD/CVD Operations, Office IV, Enforcement and Compliance, International Trade Administration, Department of Commerce, 1401 Constitution Avenue NW., Washington, DC 20230; telephone: (202) 482-2769.

SUPPLEMENTARY INFORMATION:

Background

For a complete description of the events that following the publication of the Preliminary Results, see the Issues and Decision Memorandum.² The Issues and Decision Memorandum is a public document and is on file electronically via Enforcement and Compliance's AD and Countervailing Duty (CVD) Centralized Electronic Service System (ACCESS). ACCESS is available to registered users at http://access.trade.gov and in the Central Records Unit, Room B8024 of the main Department of Commerce building. In addition, a complete version of the Issues and Decision Memorandum can be accessed directly at http://enforcement.trade.gov/frn/index.html. The signed Issues and Decision Memorandum and the electronic version of the Issues and Decision Memorandum are identical in content.

² See Memorandum from Edward Yang, Senior Director, Office VII, Antidumping and Countervailing Operations, to Paul Piquado, Assistant Secretary for Enforcement and Compliance, entitled “Issues and Decision Memorandum for the Final Results of the Antidumping Duty New Shipper Review: Crystalline Silicon Photovoltaic Cells, Whether or Not Assembled Into Modules, From the People's Republic of China” issued concurrently with and hereby adopted by this notice (“Issues and Decision Memorandum”).

Scope of the Order

The merchandise covered by the order is crystalline silicon photovoltaic cells, and modules, laminates, and panels, consisting of crystalline silicon photovoltaic cells, whether or not partially or fully assembled into other products, including, but not limited to, modules, laminates, panels and building integrated materials.³ Merchandise covered by the order is classifiable under subheadings 8501.61.0000, 8507.20.80, 8541.40.6020, 8541.40.6030, and 8501.31.8000 of the Harmonized Tariff Schedule of the United States (“HTSUS”). Although the HTSUS subheadings are provided for convenience and customs purposes, our written description of the scope of the order is dispositive.

³ For a complete description of the scope of the order, see the Issues and Decision Memorandum.

Analysis of Comments Received

All issues raised in the case and rebuttal briefs by parties are addressed in the Issues and Decision Memorandum.⁴ A list of the issues which parties raised is attached to this notice as an Appendix.

⁴ Id.

Bona Fide Analysis

For the Preliminary Rescission, the Department analyzed the bona fides of DMEGC's single sale and preliminarily found it to be a non-bona fide sale.⁵ Based on the Department's complete analysis of all of the information and comments on the record of this review, the Department continues to find DMEGC's sale to be a non-bona fide sale. The Department reached this conclusion based on the totality of circumstances, namely: (a) The atypical nature of the price and sale quantity; (b) DMEGC's failure to demonstrate that its first unaffiliated customer resold the merchandise at a profit; (c) the timing of the sale; and (d) issues concerning payment.⁶ For a complete discussion, see the Issues and Decision Memorandum.⁷

⁵ See “Decision Memorandum for the Preliminary Rescission of the 2013-2014 Antidumping Duty New Shipper Review: Crystalline Silicon Photovoltaic Cells, Whether or Not Assembled Into Modules, from the People's Republic of China” from Christian Marsh, Deputy Assistant Secretary for Antidumping and Countervailing Operations, to Ronald K. Lorentzen, Acting Assistant Secretary for Enforcement and Compliance, dated April 7, 2015.

⁶ See Issues and Decision Memorandum.

⁷ Id. Further, because a significant amount of the information discussed may not be publicly disclosed, the Department addressed the issue in a separate business proprietary memorandum. See Memorandum to Edward Yang Senior Director, Office VII, Antidumping and Countervailing Duty Operations, from Abdelali Elouaradia, Director, Office IV, Antidumping and Countervailing Duty Operations: “2013-2014 Antidumping Duty New Shipper Review of Crystalline Silicon Photovoltaic Cells, Whether or Not Assembled Into Modules, from the People's Republic of China: Comments in the Issues and Decision Memorandum Containing Business Proprietary Information,” dated concurrently with this notice.

Rescission of New Shipper Review

For the foregoing reasons, the Department finds that DMEGC's sale is a non-bona fide sale and that this sale does not provide a reasonable or reliable basis for calculating a dumping margin. Because this non-bona fide sale was DMEGC's only sale of subject merchandise during the POR, the Department is rescinding this NSR.

Assessment

As the Department is rescinding this NSR, we have not calculated a company-specific dumping margin for DMEGC. DMEGC remains part of the PRC-wide entity and, accordingly, its entries will be assessed at the PRC-wide rate.

Cash Deposit Requirements

Effective upon publication of this notice of final rescission of the NSR of DMEGC, the Department will instruct U.S. Customs and Border Protection to discontinue the option of posting a bond or security in lieu of a cash deposit for entries of subject merchandise from DMEGC. Because we did not calculate a dumping margin for DMEGC or grant DMEGC a separate rate in this review, DMEGC continues to be part of the PRC-wide entity. The cash deposit rate for the PRC-wide entity is 238.95 percent. These cash deposit requirements shall remain in effect until further notice.

Administrative Protective Order

This notice also serves as a reminder to parties subject to Administrative Protective Order (“APO”) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a violation which is subject to sanction.

We are issuing and publishing this notice in accordance with sections 751(a)(2)(B) and 777(i) of the Tariff Act of 1930, as amended, and 19 CFR 351.214.

Dated: September 4, 2015.
Paul Piquado,
Assistant Secretary for Enforcement and Compliance.

Appendix—Issues and Decision Memorandum

Summary

Background

Scope of the Order

Discussion of the Issues

Comment 1: Commerce's Bona Fide Analysis for DMEGC

Comment 2: Surrogate Country and Value Selection

Recommendation

[FR Doc. 2015-23049 Filed 9-11-15; 8:45 am]

BILLING CODE 3510-DS-P